NUCLEAR REGULATORY COMMISSION

[Docket No. 40-9083; NRC-2017-0106]

U.S. Army Installation Command

AGENCY: Nuclear Regulatory Commission.

ACTION: 10 CFR 2.206 request; receipt.

SUMMARY: The U.S. Nuclear Regulatory Commission (NRC) is giving notice that by petition dated March 16, 2017, Dr. Michael Reimer (the petitioner) has requested that the NRC take action with regard to facilities licensed under source materials license SUC-1593. The petitioner's requests are included in the SUPPLEMENTARY INFORMATION section of this document.

ADDRESSES: Please refer to Docket ID NRC-2017-0106 when contacting the NRC about the availability of information regarding this document. You may obtain publicly-available information related to this document using any of the following methods:

• Federal Rulemaking Web site: Go to http://www.regulations.gov and search for Docket ID NRC-2017-0106. Address questions about NRC dockets to Carol Gallagher; telephone: 301-415-3463; email: Carol.Gallagher@nrc.gov.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: On March 16, 2017, the petitioner requested that the NRC take action with regard to the U.S. Army Installation Command (ADAMS Accession No. ML17110A308). The petitioner requested that the NRC reconsider its approval of License SUC-1593 (ADAMS Accession No. ML16343A161) for possession of depleted uranium at various military installations in the United States.

As the basis for this request, the petitioner identified concerns about lack of air sampling, inappropriateness of the location and number of sediment samples, and insufficient geologic sampling procedures for sediment collection for the licensed depleted uranium that is located in radiation controlled areas on the United States Army's Pohakuloa Training Area, one of the facilities licensed under License SUC-1593.

The request is being treated pursuant to section 2.206 of Title 10 of the Code of Federal Regulations (10 CFR) of the Commission's regulations. The request has been referred to the Director of Nuclear Material Safety and Safeguards. As provided by 10 CFR 2.206, appropriate action will be taken on this petition within a reasonable time.

Dated at Rockville, Maryland, this 21st day of April 2017.
For the Nuclear Regulatory Commission.
Theodore Smith,
Acting Branch Chief, Materials Decommissioning Branch, Division of Decommissioning, Uranium Recovery, and Waste Programs, Office of Nuclear Material Safety and Safeguards.

[FR Doc. 2017-08843 Filed 5-1-17; 8:45 am]

BILLING CODE 7590-01-P